DEPARTMENT OF LABOR

Mine Safety and Health Administration

Petitions for Modification

AGENCY: Mine Safety and Health Administration, Labor.

ACTION: Notice of petitions for modification of existing mandatory safety standards.

SUMMARY: Section 101(c) of the Federal Mine Safety and Health Act of 1977 and 30 CFR Part 44 govern the application, processing, and disposition of petitions for modification. This notice is a summary of petitions for modification filed by the parties listed below to modify the application of existing mandatory safety standards published in Title 30 of the Code of Federal Regulations.

DATES: Comments on the petitions must be received by the Office of Standards, Regulations, and Variances on or before July 2, 2007.

ADDRESSES: You may submit your comments, identified by “docket number” on the subject line, by any of the following methods:

1. E-Mail: Standards-Petitions@dol.gov.

2. Telefax: 1-202-693-9441.

3. Hand-Delivery or Regular Mail: Submit comments to the Mine Safety and Health Administration (MSHA), Office of Standards, Regulations, and Variances, 1100 Wilson Boulevard, Room 2349, Arlington, Virginia 22209, Attention: Patricia W. Silvey, Director, Office of Standards, Regulations, and Variances.

We will consider only comments postmarked by the U.S. Postal Service or proof of delivery from another delivery service such as UPS or Federal Express on or before the deadline for comments. Individuals who submit comments by hand-delivery are required to sign-in at the receptionist desk on the 21st floor.

Individuals may inspect copies of the petitions and comments during normal business hours at the address listed above.

FOR FURTHER INFORMATION CONTACT: Edward Sexauer, Chief, Regulatory Development Division at 202-693-9444 (Voice), sexauer.edward@dol.gov (E-mail), or 202-693-9441 (Telefax), or contact Barbara Barron at 202-693-9447 (Voice), barron.barbara@dol.gov (E-mail), or 202-693-9441 (Telefax). [These are not toll-free numbers.

SUPPLEMENTARY INFORMATION:

I. Background

Section 101(c) of the Federal Mine Safety and Health Act of 1977 (Mine Act) allows the mine operator or representative of miners to file a petition to modify the application of any mandatory safety standard to a coal or other mine if the Secretary determines that: (1) An alternative method of achieving the result of such standard exists which will at all times guarantee no less than the same measure of protection afforded the miners of such mine by such standard; or (2) that the application of such standard to such mine will result in a diminution of safety to the miners in such mine. In addition, the regulations at 30 CFR 44.10 and 44.11 establish the requirements and procedures for filing petitions for modifications.

II. Petitions for Modification

Docket Number: M-2007-018-C.

Petitioner: TJS Mining Company, Inc.

Mine: Darmac #2 Mine, (MSHA I.D. No. 36-08135), located in Armstrong County, Pennsylvania.

Regulation Affected: 30 CFR 75.503 (Permissible electric face equipment; maintenance) and 30 CFR 18.35 (Portable (trailing) cables and cords).

Modification Request: The petitioner requests a modification of the existing standard to increase the cable length of cables supplying power to two (2) Fletcher Roof Ranger II Roof Bolters. The petitioner states that: (1) The utilization voltage for these machines is 480 volts, three-phase alternating current and the maximum length of the 480-volt trailing cables will be 950 feet; (2) the trailing cables for the 480-volt Fletcher Roof Ranger II Roof Bolters will not be smaller than No. 2 A.W.G. cable; (3) all circuit breakers used to protect the No. 2 A.W.G. trailing cables exceeding 700 feet in length will have instantaneous trip units calibrated to trip at 500 amperes and the trip setting of the circuit breakers will be sealed to ensure that the settings cannot be changed; (4) these breakers will have permanent legible labels identifying the circuit breakers as being suitable for protecting the No. 2 A.W.G cables; (5) replacement circuit breakers and/or instantaneous trip units used to protect the No. 2 A.W.G. trailing cables will be calibrated to trip at 500 amperes and the setting will be sealed; and (6) all components that provide short-circuit protection will have a sufficient interruption rating in accordance with the maximum calculated fault currents available. The petitioner also asserts that the cables and circuit breakers will be inspected each production day and warning labels will be installed on the load center to identify each short-circuit protective device. The petitioner states that the alternative method will not be implemented until training has been provided to all miners who are designated to operate the Roof Ranger II, and to person(s) designated to examine the trailing cables or trip settings on the circuit breakers. The petitioner further states that the miners will be trained in the terms and conditions of the Proposed Decision and Order, and within 60 days the petitioner will submit revisions of its Part 48 training plan to the District Manager that includes task training to comply with the final order. The petitioner asserts that the proposed alternative method will at times guarantee no less than the same measure of protection afforded the miners by such standard with no diminution of safety to the miners. The petitioner has listed additional procedures in this petition that will be used when the proposed alternative method is implemented. Persons may review a complete description of the procedures and training requirements at the MSHA address listed in this notice.

Docket Number: M-2007-019-C.

Petitioner: Little Buck Coal Company, 57 Lincoln Road, Pine Grove, Pennsylvania 17963.

Mine: Bottom Split Slope, (MSHA I.D. No. 36-09491), located in Schuylkill County, Pennsylvania.

Regulation Affected: 30 CFR 75.335 (Construction of seals).

Modification Request: The petitioner proposes to: (1) Construct alternative seals from wooden materials of moderate size and weight; (2) design the seals in the 10 psi range; and (3) install the seals in pairs, which require water traps to be installed in the gangway seal (lowest elevation) and sampling tube in the monkey seal (higher elevation). In addition, petitioner asserts that concrete block and mortar construction for openings parallel to the pitching vein would be almost impossible to construct and would be subject to fail because of its weight and would expose miners to safety hazards during transport. The petitioner cites non-explosibility of anthracite coal dust and minimal potential for either an accumulation of methane in previously mined pitching veins or an ignition source in the gob area, as justification for the proposed 10 psi design. The petitioner asserts that the proposed alternative method would provide at least the same measure of protection as the existing standard.

Docket Number: M-2007-020-C.

Petitioner: Energy West Mining Company, P.O. Box 310, Huntington, Utah 84528.

Mine: Deer Creek Mine, (MSHA I.D. No. 42-00212), located in Emery County, Utah.

Regulation Affected: 30 CFR 75.350 (Air courses and belt haulage entries).

Modification Request: The petitioner requests an amendment to the proposed decision and order (PDO) for its previously granted petition for modification, docket number M-2002-012-C to: (1) Remove section IV(c) and section IV(d) regarding heavy duty diesel-powered equipment and replace these sections with language described in this amended petition; (2) to remove language addressing refueling of diesel equipment in a two entry in section IV(e) of the PDO, and replace it with language described in the amended petition. Persons may review the amended petition at the MSHA address listed in this notice.

Docket Number: M-2007-021-C.

Petitioner: Black Beauty Coal Company, P.O. Box 347, Francisco, Indiana 47649.

Mine: Francisco Underground Pit, (MSHA I.D. No. 12-02295), located in Gibson County, Indiana.

Regulation Affected: 30 CFR 75.1909(b)(6) (Nonpermissible diesel-powered equipment; design and performance requirements).

Modification Request: The petitioner proposes to operate the Getman Road Builder, RDG-1504S, Serial Number 6925, without front brakes as it was originally designed. The petitioner states that: (1) The Road Builder has dual brake systems on the four (4) rear wheels and is designed to prevent a loss of braking due to a single component failure; (2) the operators will be trained to recognize appropriate speeds for different road conditions and slopes, and to lower the grader blade to provide additional stopping capability; and (3) the safety of the miners will not be compromised. The petitioner asserts that the alternative braking method will provide the necessary safety for the workforce as is required in 30 CFR 75.1909(b)(6).

Docket Number: M-2007-005-M.

Petitioner: Oldcastle Industrial Minerals, 550 S. Biesecker Road, Thomasville, Pennsylvania.

Mine: Thomasville Mine, (MSHA I.D. No. 36-03432), located in York County, Pennsylvania.

Regulation Affected: 30 CFR 57.11052(d) (Refuge areas).

Modification Request: The petitioner requests a modification of the existing standard to permit the use of compressed air cylinders and bottled water instead of using compressed air and water lines to underground refuge chambers. The petitioner states that: (1) The Thomasville Mine is a high purity, non-gas liberating limestone mine where multiple geologic deformation phases have occurred which has led to the utilization of multiple mining techniques on many different working levels within multiple underground and surface mine operations; (2) the refuge chamber will contain enough compressed air to support four (4) people for up to 2 days, which based on NIOSH figures of oxygen consumption, will require a minimum of 672 cubic feet of oxygen or 3215 cubic feet of breathable air (of which 20.9% is oxygen) supplied in compressed air tanks; and (3) since there is no source of potable water underground it will supply bottled water in the refuge chamber to provide a source of safe, clean water, which would not be the case if water lines from the pumping stations were used.

Dated: May 18, 2007.
Patricia W. Silvey,
Director, Office of Standards, Regulations, and Variances.

[FR Doc. E7-10442 Filed 5-30-07; 8:45 am]

BILLING CODE 4510-43-P